DEPARTMENT OF TRANSPORTATION

Surface Transportation Board

[Docket No. AB 837 (Sub-No. 1X)]

The Long Island Rail Road Company—Abandonment Exemption—in Queens County, NY

On October 13, 2015, the Long Island Rail Road Company (LIRR) filed with the Surface Transportation Board (Board) a petition under 49 U.S.C. 10502 for exemption from the prior approval requirements of 49 U.S.C. 10903 to abandon the following two segments of rail line: (1) An approximately 0.69-mile segment located between milepost 0.0 and milepost 0.69, in Long Island City, NY, and traversing United States Postal Service Zip Code 11101 and (2) an approximately 0.38-mile segment located between milepost 0.82 and milepost 1.2, in Long Island City, NY, and traversing United States Postal Service Zip Code 11101.

LIRR states that the two lines segments do not contain federally granted rights-of-way. Any documentation in LIRR's possession will be made available promptly to those requesting it.

The interest of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by January 29, 2016.

Any offer of financial assistance (OFA) under 49 CFR 1152.27(b)(2) will be due no later than February 8, 2016, or 10 days after service of a decision granting the petition for exemption, whichever occurs first. Each OFA must be accompanied by a $1,600 filing fee.¹

¹ See 49 CFR 1002.2(f)(25).

All interested persons should be aware that, following abandonment, the Line may be suitable for other public use, including interim trail use. Any request for a public use condition under 49 CFR 1152.28 or for interim trail use/rail banking under 49 CFR 1152.29 will be due no later than November 23, 2015. Each interim trail use request must be accompanied by a $300 filing fee.²

² See Regulations Governing Fees for Servs. Performed in Connection with Licensing & Related Servs.—2015 Update, EP 542 (Sub-No. 23), slip op. at 17, item 27(i) (STB served July 15, 2015).

All filings in response to this notice must refer to Docket No. AB 837X and must be sent to: (1) Surface Transportation Board, 395 E Street SW., Washington, DC 20423-0001; and (2) Brian K. Saltz, Assistant Deputy General Counsel, The Long Island Rail Road Company, Law Dept.—1143, Jamaica Station, Jamaica, New York 11435. Replies to the petition are due on or before November 23, 2015.

Persons seeking further information concerning abandonment procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who commented during its preparation. Other interested persons may contact OEA to obtain a copy of the EA (or EIS). EAs in these abandonment proceedings normally will be made available within 60 days of the filing of the petition. The deadline for submission of comments on the EA typically will be within 30 days of its service.

Board decisions and notices are available on our Web site at WWW.STB.DOT.GOV.

Decided: October 28, 2015.
By the Board, Rachel D. Campbell, Director, Office of Proceedings.
Kenyatta Clay,
Clearance Clerk.

[FR Doc. 2015-27837 Filed 10-30-15; 8:45 am]

BILLING CODE 4915-01-P